ENVIRONMENTAL PROTECTION AGENCY

[ER-FRL-6674-4]

Environmental Impacts Statements; Notice of Availability

Responsible Agency: Office of Federal Activities, General Information (202) 564-7167 or http://www.epa.gov/compliance/nepa/.

Weekly Receipt of Environmental Impact Statements

Filed 04/10/2006 through 04/14/2006

Pursuant to 40 CFR 1506.9.

EIS No. 20060134, Final EIS, SFW, CA, Coachella Valley Multiple Species Habitat Conservation Plan (MSHCP), Santa Rosa and San Jacinto Mountains Trails Plan, Issuance of Incidental Take Permit, Riverside County, CA. Wait Period Ends: 05/22/2006, Contact: Vicki Campbell 916-414-6464.

EIS No. 20060135, Final EIS, FHW, OH, US-24 Transportation Project, Improvements between Napoleon to Toledo, Funding, Lucas and Henry Counties, OH. Wait Period Ends: 05/22/2006, Contact: Mark Vonder Embse 614-280-6854.

EIS No. 20060136, Draft EIS, AFS, AK, Kenai Winter Access Project, Develop a Winter Access Management Plan for 2006/2007 Winter Season, Implementation, Seward Ranger District, Chugach National Forest, Located on the Kenai Peninsula in Southcentral, AK. Comment Period Ends: 06/05/2006, Contact: Sharon Randall 907-743-9497.

EIS No. 20060137, Draft EIS, AFS, WI, Twentymile Restoration Project Area, Restore Northern Hardwood Forests to an Uneven-aged Condition, Great Divide Ranger District, Chequamegon-Nicolet National Forest, Ashland and Bayfield Counties, WI. Comment Period Ends: 06/05/2006, Contact: Debra Proctor 715-634-4821.

EIS No. 20060138, Draft EIS, BLM, CA, United States Gypsum Expansion/Modernization Project, Expand and Upgrade Plaster City Plant to Increase Wallboard Production Capacity with Related increases in Water Supply, Right-of-Way Grant, Imperial County, CA. Comment Period Ends: 06/20/2006, Contact: Linda Self 760-337-4426.

EIS No. 20060139, Final EIS, AFS, CA, Southern California National Forests Land Management Plans, Revision of the Angeles, Cleveland, Los Padres, and San Bernardino National Forests Land Management Plans, Implementation, San Bernardino, Riverside, and San Diego Counties, CA. Wait Period Ends: 05/22/2006, Contact: Ron Pugh 858-524-0150.

EIS No. 20060140, Final EIS, FHW, KS, Adoption—Kansas Highway 10 (commonly Known as South Lawrence Trafficway), Relocation, Issuance of U.S. Army COE Section 404 Permit, Lawrence City, Douglas County, KS. Wait Period Ends: 05/31/2006, Contact: Wendall L. Meyer 785-228-2544.

Department of Transportation's, Federal Highway Administration, has adopted the Corp of Engineers's, FEIS #20030010, filed 01/07/2003. FHW was not a Cooperating Agency on the above FEIS. Under Section 1506.3(b) of the CEQ Regulations, the FEIS must be Recirculated for a 30-day Wait Period.

EIS No. 20060141, Draft EIS, AFS, WI, Boulder Project, Timber Harvesting, Vegetation and Road Management, U.S. Army COE Section 404 Permit, Chequamegon-Nicolet National Forest, Lakewood-Laona Ranger District, Oconto and Langlade Counties, WI. Comment Period Ends: 06/05/2006, Contact: Paul Sweeney 715-276-6333.

EIS No. 20060142, Final EIS, AFS, ID, Sixshooter Project, To Reduce the Threats of Insect Infestation and Wildfire, Sixmile and West Fork Creek, Boise National Forest, Emmett Ranger District, Gem County, ID. Wait Period Ends: 05/22/2006, Contact: Scott Godfrey 208-365-7000.

EIS No. 20060143, Draft EIS, NPS, MA, Cape Cod National Seashore (CACO) Hunting Program, General Management Plan, Implementation, Barnstable County, MA. Comment Period Ends: 06/19/2006, Contact: George E. Price, Jr. 508-349-3785.

EIS No. 20060144, Final EIS, FHW, IN, US-31 Improvement from Plymouth to South Bend, Running from Southern Terminus at US-30 to Northern Terminus at US-20, Marshall and St. Joseph Counties, IN. Wait Period Ends: 05/22/2006, Contact: Larry Neil 317-226-7480.

EIS No. 20060145, Final EIS, COE, PA, Alleghany and Ohio Rivers Commercial Sand and Gravel Dredging Operations, Granting and Extending Permits for Continuance of Dredging and U.S. Army COE Section 10 and 404 Permits Issuance, PA. Wait Period Ends: 05/22/2006, Contact: Scott Hans 412-395-7154.

EIS No. 20060146, Draft EIS, UAF, HI, Hickam Air Force Base and Bellows Air Force Station, 15th Airlift Wing, Housing Privatization Phase II, To Transfer the Remaining Housing Units, and Associated Infrastructure to Selected Offeror, O'ahu, HI. Comment Period Ends: 06/05/2006, Contact: Ron Lanier 808-449-1584 x238.

EIS No. 20060147, Draft EIS, FTA, MN, Central Corridor Project, Develop a Light Rail Facility or a Busway/Bus Rapid Transit Facility, 11 miles between downtown Minneapolis and downtown St. Paul, Minnesota, Twin Cities Metropolitan Area, MN. Comment Period Ends: 06/05/2006, Contact: Marisol Simon 312-353-3789.

Amended Notices

EIS No. 20060122, Draft EIS, BIA, WA, Cowlitz Indian Tribe Trust Acquisition and Casino Project, Take 151.87 Acres into Federal Trust and Issuing of Reservation Proclamation, and Approving the Gaming Development and Management Contract, Clack County, WA. Comment Period Ends: 07/14/2006, Contact: Gerald Henrickson 503-231-69227. Revision of FR Notice Published on 04/14/2006: Change to Contact Person Name and Telephone Number per Agency's request.

Dated: April 18, 2006.
Robert W. Hargrove,
Director, NEPA Compliance Division, Office of Federal Activities.

[FR Doc. E6-6023 Filed 4-20-06; 8:45 am]

BILLING CODE 6560-50-P